ENVIRONMENTAL PROTECTION AGENCY

[EPA-HQ-OPP-OPP-2013-0036; FRL-9380-3]

Rolling Bay, LLC and Indus; Transfer of Data

AGENCY: Environmental Protection Agency (EPA).

ACTION: Notice.

SUMMARY: This notice announces that pesticide related information submitted to EPA's Office of Pesticide Programs (OPP) pursuant to the Federal Insecticide, Fungicide, and Rodenticide Act (FIFRA) and the Federal Food, Drug, and Cosmetic Act (FFDCA), including information that may have been claimed as Confidential Business Information (CBI) by the submitter, will be transferred to Rolling Bay, LLC and its subcontractor, Indus, in accordance with the CBI regulations. Rolling Bay, LLC and its subcontractor, Indus, have been awarded a contract to perform work for OPP, and access to this information will enable Rolling Bay, LLC and its subcontractor, Indus, to fulfill the obligations of the contract.

DATES: Rolling Bay, LLC and its subcontractor, Indus, will be given access to this information on or before March 20, 2013.

FOR FURTHER INFORMATION CONTACT: Mario Steadman, Information Technology and Resources Management Division (7502P), Office of Pesticide Programs, Environmental Protection Agency, 1200 Pennsylvania Ave. NW., Washington, DC 20460-0001; telephone number: (703)-305-8338, email address: steadman.mario@epa.gov.

SUPPLEMENTARY INFORMATION:

I. General Information

A. Does this action apply to me?

This action applies to the public in general. As such, the Agency has not attempted to describe all the specific entities that may be affected by this action.

B. How can i get copies of this document and other related information?

The docket for this action, identified by docket identification (ID) number EPA-HQ-OPP-2013-0036, is available at http://www.regulations.gov or at the Office of Pesticide Programs Regulatory Public Docket (OPP Docket) in the Environmental Protection Agency Docket Center (EPA/DC), EPA West Bldg., Rm. 3334, 1301 Constitution Ave., NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. Contractor Requirements

Under Contract No. GS-35F-0072Y, Rolling Bay, LLC and its subcontractor, Indus, will:

• Capture data that supports regulatory applications, decisions, and incident reports.

• Provide processing and indexing support for studies and other technical documents of archival significance and processing.

• Make every effort to adopt to changing environments in technology, Office of Management and Budget (OMB), Homeland Security, Presidential Directives, and EPA Management Directives, of which, changes could be in the areas of technology, regulations, information systems, process adaptations, coordination with other agencies, coordination with other agency contractors, Government furnished equipment and/or software, facilities and security requirements, so long as the work being tasked remains within the scope of the task activities herein.

OPP has determined that access by Rolling Bay, LLC and its subcontractor, Indus, to information on all pesticide chemicals is necessary for the performance of this contract.

Some of this information may be entitled to confidential treatment. The information has been submitted to EPA under FIFRA sections 3, 4, 6, and 7 and under FFDCA sections 408 and 409.

In accordance with the requirements of 40 CFR 2.307(h)(2), the contract with Rolling Bay, LLC and its subcontractor, Indus, prohibits use of the information for any purpose not specified in the contract; prohibits disclosure of the information to a third party without prior written approval from the Agency; and requires that each official and employee of the contractor sign an agreement to protect the information from unauthorized release and to handle it in accordance with the FIFRA Information Security Manual. In addition, Rolling Bay, LLC and its subcontractor, Indus, are required to submit for EPA approval a security plan under which any CBI will be secured and protected against unauthorized release or compromise. No information will be provided to Rolling Bay, LLC and its subcontractor, Indus, until the requirements in this document have been fully satisfied. Records of information provided to Rolling Bay, LLC and its subcontractor, Indus, will be maintained by EPA Project Officers for this contract. All information supplied to Rolling Bay, LLC and its subcontractor, Indus, by EPA for use in connection with this contract will be returned to EPA when Rolling Bay, LLC and its subcontractor, Indus, have completed their work.

List of Subjects

Environmental protection, Business and industry, Government contracts, Government property, Security measures.

Dated: February 23, 2013.
Oscar Morales,
Director, Information Technology and Resources Management Division, Office of Pesticide Programs.

[FR Doc. 2013-05940 Filed 3-14-13; 8:45 am]

BILLING CODE 6560-50-P